OFFICE OF PERSONNEL MANAGEMENT

Submission for Review: Representative Payee Survey, RI 38-115

AGENCY: Office of Personnel Management.

ACTION: 60-Day notice and request for comments.

SUMMARY: The Retirement Services, Office of Personnel Management (OPM) offers the general public and other Federal agencies the opportunity to comment on a revised information collection request (ICR), Representative Payee Survey. As required by the Paperwork Reduction Act of 1995 (Pub. L. 104-13) as amended by the Clinger-Cohen Act (Pub. L. 104-106), OPM is soliciting comments for this collection.

DATES: Comments are encouraged and will be accepted until March 23, 2018. This process is conducted in accordance with 5 CFR 1320.1.

ADDRESSES: Interested persons are invited to submit written comments on the proposed information collection to the Office of Personnel Management, Retirement Services, 1900 E Street NW, Room 2347E, Washington, DC 20415, Attention: Alberta Butler, or sent by email to Alberta.Butler@opm.gov.

FOR FURTHER INFORMATION CONTACT: A copy of this ICR with applicable supporting documentation, may be obtained by contacting the Retirement Services Publications Team, Office of Personnel Management, 1900 E Street NW, Room 3316-L, Washington, DC 20415, Attention: Cyrus S. Benson, or sent by email to Cyrus.Benson@opm.gov, by phone to 202-606-4808 or faxed to (202) 606-0910.

SUPPLEMENTARY INFORMATION: The Representative Payee Survey is used to collect information about how the benefits paid to a representative payee have been used or conserved for the benefit of the incompetent annuitant. The Office of Management and Budget is particularly interested in comments that:

1. Evaluate whether the proposed collection of information is necessary for the proper performance of functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Form RI 38-115, Representative Payee Survey, is used to collect information about how the benefits paid to a representative payee have been used or conserved for the benefit of the incompetent annuitant.

Analysis

Agency: Retirement Operations, Retirement Services, Office of Personnel Management.

Title: Representative Payee Survey.

OMB Number: 3206-0208.

Frequency: Annually.

Affected Public: Individuals or Households.

Number of Respondents: 11,000.

Estimated Time per Respondent: 20 minutes.

Total Burden Hours: 3,667.

Office of Personnel Management.
Kathleen M. McGettigan,
Acting Director.

[FR Doc. 2018-01052 Filed 1-19-18; 8:45 am]

BILLING CODE 6325-38-P